DEPARTMENT OF COMMERCE

International Trade Administration

[C-533-844]

Certain Lined Paper Products From India: Notice of Partial Rescission of Countervailing Duty Administrative Review; 2011

AGENCY: Import Administration, International Trade Administration, Department of Commerce.

DATES: Effective Date: February 26, 2013.

FOR FURTHER INFORMATION CONTACT: Patricia Tran, AD/CVD Operations, Office 8, Import Administration, International Trade Administration, U.S. Department of Commerce, 14th Street and Constitution Avenue NW., Washington, DC 20230; telephone: (202) 482-1009.

SUPPLEMENTARY INFORMATION:

Background

On September 4, 2012, the Department of Commerce (the Department) published a notice of opportunity to request an administrative review of the countervailing duty order on certain lined paper products from India.¹

¹ See Antidumping or Countervailing Duty Order, Finding, or Suspended Investigation; Opportunity to Request Administrative Review, 77 FR 53863 (September 4, 2012).

Pursuant to requests from interested parties, the Department published in the Federal Register the notice of initiation of this countervailing duty administrative review with respect to 82 companies for the period January 1, 2011, through December 31, 2011.² On November 27, 2012, petitioners ³ withdrew their review request in its entirety, including its requests for both Navneet Publications (India) Ltd. (Navneet) and A.R. Printing & Packaging India Pvt. Ltd. (A.R. Printing & Packaging).⁴ On December 13, 2012, the Department published in the Federal Register the notice of partial rescission of this countervailing duty administrative review for all companies except Navneet and A.R. Printing & Packaging, both of whom requested their own review.⁵ On January 3, 2013, Navneet withdrew its review request.⁶ Petitioners and Navneet were the only parties which requested a review of the company.

² See Initiation of Antidumping and Countervailing Duty Administrative Reviews and Request for Revocation in Part, 77 FR 65858 (October 31, 2012) (Initiation).

³ Petitioners are the Association of American School Paper Suppliers.

⁴ See petitioners' November 27, 2012, Withdrawal of Request for Administrative Review.

⁵ See Certain Lined Paper From India: Notice of Partial Rescission of Countervailing Duty Administrative Review, 77 FR 74172 (December 13, 2012).

⁶ See Navneet's January 3, 2013, letter titled, “Certain Lined Paper Products from India: Withdrawal of Request for Countervailing Duty Administrative Review of Navneet Publications (India) Ltd.”

Partial Rescission of the 2011 Administrative Review

Pursuant to 19 CFR 351.213(d)(1), the Secretary will rescind an administrative review, in whole or in part, if the parties that requested a review withdraw the request within 90 days of the date of publication of the notice of initiation of the requested review. The Department published the Initiation on October 31, 2012.⁷ Navneet's withdrawal request was submitted within the 90-day period following the publication of the Initiation and, thus, is timely. Therefore, in accordance with 19 CFR 351.213(d)(1), and consistent with our practice, we are rescinding this review of the countervailing duty order on certain lined paper products from India with respect to Navneet. The instant review will continue with respect to A.R. Printing & Packaging which requested a review.

⁷ See Initiation.

Assessment

The Department will instruct U.S. Customs and Border Protection (CBP) to assess countervailing duties on all appropriate entries. For the company for which this review is rescinded countervailing duties shall be assessed at rates equal to the cash deposit of estimated countervailing duties required at the time of entry, or withdrawal from warehouse, for consumption, during the period January 1, 2011, through December 31, 2011, in accordance with 19 CFR 351.212(c)(1)(i).

The Department intends to issue appropriate assessment instructions directly to CBP 15 days after publication of this notice.

Notification Regarding Administrative Protective Order

This notice serves as a final reminder to parties subject to administrative protective orders (APOs) of their responsibility concerning the disposition of proprietary information disclosed under an APO in accordance with 19 CFR 351.305(a)(3), which continues to govern business proprietary information in this segment of the proceeding. Timely written notification of the return/destruction of APO materials or conversion to judicial protective order is hereby requested. Failure to comply with the regulations and terms of an APO is a violation which is subject to sanction.

This notice is issued and published in accordance with sections 751(a)(1) and 777(i)(1) of the Tariff Act of 1930, as amended, and 19 CFR 351.213(d)(4).

Dated: February 19, 2013.
Christian Marsh,
Deputy Assistant Secretary for Antidumping and Countervailing Duty Operations.

[FR Doc. 2013-04416 Filed 2-25-13; 8:45 am]

BILLING CODE 3510-DS-P